DEPARTMENT OF TRANSPORTATION

Federal Aviation Administration

14 CFR Part 39

[Docket No. FAA-2016-6983; Directorate Identifier 2016-CE-012-AD]

RIN 2120-AA64

Airworthiness Directives; RUAG Aerospace Services GmbH Airplanes

AGENCY: Federal Aviation Administration (FAA), Department of Transportation (DOT).

ACTION: Notice of proposed rulemaking (NPRM).

SUMMARY: We propose to adopt a new airworthiness directive (AD) for RUAG Aerospace Services GmbH Models 228-100, 228-101, 228-200, 228-201, 228-202, and 228-212 airplanes that would supersede AD 2009-13-04. This proposed AD results from mandatory continuing airworthiness information (MCAI) originated by an aviation authority of another country to identify and correct an unsafe condition on an aviation product. The MCAI describes the unsafe condition as excessive wear on the guide pin of the power lever or condition lever which could cause functional loss of the flight idle stop. We are issuing this proposed AD to require actions to address the unsafe condition on these products.

DATES: We must receive comments on this proposed AD by July 18, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact RUAG Aerospace Services GmbH, Dornier 228 Customer Support, P.O. Box 1253, 82231 Wessling, Federal Republic of Germany, telephone: +49 (0) 8153-30-2280; fax: +49 (0) 8153-30-3030; email: custsupport.dorner228@ruag.com; Internet: http://www.ruag.com/. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2016-6983; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Comments Invited

We invite you to send any written relevant data, views, or arguments about this proposed AD. Send your comments to an address listed under the ADDRESSES section. Include “Docket No. FAA-2016-6983; Directorate Identifier 2016-CE-012-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On June 10, 2009, we issued AD 2009-13-04, Amendment 39-15943 (74 FR 29116; June 19, 2009) (“AD 2009-13-04”). AD 2009-13-04 required actions intended to address an unsafe condition on RUAG Aerospace Services GmbH Models 228-100, 228-101, 228-200, 228-201, 228-202, and 228-212 airplanes and was based on mandatory continuing airworthiness information (MCAI) originated by an aviation authority of another country.

Since we issued AD 2009-13-04, further analysis has determined that the inspection interval in cases of no pin replacement can be extended.

The European Aviation Safety Agency (EASA), which is the Technical Agent for the Member States of the European Community, has issued EASA AD No.: 2009-0031R1, dated March 29, 2016 (referred to after this as “the MCAI”), to correct an unsafe condition for the specified products. The MCAI states:

Excessive wear on a guide pin of a power lever was detected during inspections. The failure of a power lever or condition lever guide pin could cause functional loss of the flight idle stop. This condition, if not corrected, could lead to inadvertent activation of the beta mode in flight, possibly resulting in loss of control of the aeroplane.

Prompted by this finding, RUAG issued Alert Service Bulletin (ASB) ASB-228-279 to provide inspection instructions. Consequently, EASA issued AD 2009-0031 to require repetitive detailed inspections of the guide pins of the power levers and condition levers, and replacement of any pin that exceeds the allowable wear-limits.

Since that AD was issued, further analysis has determined that the inspection interval, in case of no pin replacement, can be extended and RUAG published Revision 1 of ASB-228-279, which also included landings (expressed in this AD as flight cycles—FC) as a determining factor.

For the reason described above, this AD revises EASA AD 2009-0031, amending the compliance times without changing the technical requirements, and also introducing some editorial changes for standardization.

You may examine the MCAI on the Internet at http://www.regulations.gov by searching for and locating Docket No. FAA-2016-6983.

Related Service Information Under 1 CFR Part 51

RUAG Aerospace Services GmbH has issued Dornier 228 Alert Service Bulletin No. ASB-228-279, revision 1, dated September 22, 2015. The service information describes procedures for repetitive inspections of the guide pins of the power and condition levers and replacement of those pins if necessary. This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 18 products of U.S. registry. We also estimate that it would take about 20 work-hours per product to comply with the basic requirements of this proposed AD. The average labor rate is $85 per work-hour. Required parts would cost about $10 per product.

Based on these figures, we estimate the cost of the proposed AD on U.S. operators to be $30,780, or $1,710 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15943 (74 FR 29116; June 19, 2009), and adding the following new AD:

RUAG Aerospace Services GmbH: Docket No. FAA-2016-6983; Directorate Identifier 2016-CE-012-AD.

(a) Comments Due Date

We must receive comments by July 18, 2016.

(b) Affected ADs

This AD replaces 2009-13-04, Amendment 39-15943 (74 FR 29116; June 19, 2009) (“AD 2009-13-04”).

(c) Applicability

This AD applies to RUAG Aerospace Services GmbH Models 228-100, 228-101, 228-200, 228-201, 228-202, and 228-212 airplanes, all serial numbers, certificated in any category.

(d) Subject

Air Transport Association of America (ATA) Code 76: Engine Controls.

(e) Reason

This AD results from mandatory continuing airworthiness information (MCAI) originated by an aviation authority of another country to identify and correct an unsafe condition on an aviation product. The MCAI describes the unsafe condition as excessive wear on the guide pin of the power lever or condition lever which could cause functional loss of the flight idle stop. The total loss of the pin could cause loss of the flight idle stop and lead to inadvertent activation of the beta mode in flight, resulting in possible loss of control. We are issuing this proposed AD to amend the compliance times of the guide pin inspections.

(f) Actions and Compliance

Unless already done, do the following actions in paragraphs (f)(1) through (f)(4) of this AD based on a compliance time of hours time-in-service (TIS) or flight cycles, whichever occurs first:

(1) For throttle box assemblies with less than 9,600 hours TIS or 9,600 flight cycles since installed: Inspect the guide pins of the power and condition levers for excessive wear following the Accomplishment Instructions in paragraph 2 of Dornier 228 Alert Service Bulletin No. ASB-228-279, revision 1, dated September 22, 2015, at the following times:

(i) Initially unless already done within the last 1,200 hours TIS or 1,200 flight cycles as of July 24, 2009 (the effective date retained from AD 2009-13-04), upon accumulating 9,600 hours TIS or 9,600 flight cycles, or within the next 100 hours TIS or 100 flight cycles after July 24, 2009 (the effective date retained from AD 2009-13-04), whichever occurs later, inspect the guide pins of the power and condition levers for excessive wear; and

(ii) Repetitively thereafter within 4,800 hours TIS or 4,800 flight cycles since any previous inspection in which the power and condition levers guide pins were not replaced or within 9,600 hours TIS or 9,600 flight cycles, whichever occurs first since the previous inspection in which the power and condition levers guide pins were replaced.

(2) For throttle box assemblies with 9,600 hours TIS or 9,600 flight cycles or more but less than 13,200 hours TIS or 13,200 flight cycles since installed: Inspect the guide pins of the power and condition levers for excessive wear within the next 1,200 hours TIS or 1,200 flight cycles after July 24, 2009 (the effective date retained from AD 2009-13-04) following the Accomplishment Instructions in paragraph 2 of Dornier 228 Alert Service Bulletin No. ASB-228-279, revision 1, dated September 22, 2015; and

(i) Repetitively inspect the guide pins of the power and condition levers for excessive wear thereafter within 4,800 hours TIS or 4,800 flight cycles since any previous inspection in which the power and condition levers guide pins were not replaced; or

(ii) Repetitively inspect the guide pins of the power and condition levers for excessive wear within 9,600 hours TIS or 9,600 flight cycles, whichever occurs first, since the previous inspection in which the power and condition levers guide pins were replaced.

(3) For throttle box assemblies with 13,200 hours TIS or 13,200 flight cycles or more since installed: Within 100 hours TIS or flight cycles after July 24, 2009 (the effective date retained from AD 2009-13-04) inspect the guide pins of the power and condition levers for excessive wear following the Accomplishment Instructions in paragraph 2 of Dornier 228 Alert Service Bulletin No. ASB-228-279, revision 1, dated September 22, 2015, at the following times:

(i) Initially within the next 100 hours TIS or 100 flight cycles after July 24, 2009 (the effective date retained from AD 2009-13-04); and

(ii) Repetitively thereafter within 4,800 hours TIS or 4,800 flight cycles since any previous inspection in which the power and condition levers guide pins were not replaced or within 9,600 hours TIS or 9,600 flight cycles since the previous inspection in which the power and condition levers guide pins were replaced.

(4) For all throttle box assemblies: Before further flight after any inspection required in paragraph (f)(1), (f)(2), or (f)(3) of this AD, replace any guide pin that exceeds the acceptable wear-limits as defined in paragraph 4.1 of Dornier 228 Alert Service Bulletin No. ASB-228-279, revision 1, dated September 22, 2015.

Note 1 to paragraph (f)(1), (f)(2) and (f)(3) of this AD: If the flight cycles or hours TIS of the throttle box assembly is unknown, use the hours TIS of the airplane to determine the compliance time for the inspection.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2009-0031R1, dated March 29, 2016, for related information. You may examine the MCAI on the Internet at http://www.regulations.gov by searching for and locating Docket No. FAA-2016-6983. For service information related to this AD, contact RUAG Aerospace Services GmbH, Dornier 228 Customer Support, P.O. Box 1253, 82231 Wessling, Federal Republic of Germany, telephone: +49 (0) 8153-30-2280; fax: +49 (0) 8153-30-3030; email: custsupport.dorner228@ruag.com; Internet: http://www.ruag.com/. You may review copies of the referenced service information at the FAA, Small Airplane Directorate, 901 Locust, Kansas City, Missouri 64106. For information on the availability of this material at the FAA, call (816) 329-4148.

Issued in Kansas City, Missouri, on May 20, 2016.
Pat Mullen,
Acting Manager, Small Airplane Directorate, Aircraft Certification Service.

[FR Doc. 2016-12609 Filed 5-31-16; 8:45 am]

BILLING CODE 4910-13-P